DEPARTMENT OF LABOR

Employment and Training Administration

[TA-W-39,375 and NAFTA-04939]

Sun Studs, Inc. Lone Rock Timber Company Lone Rock Logging Company Roseburg, OR; Notice of Negative Determination Regarding Application for Reconsideration

By application of September 18, 2001 and September 19, 2001, the company and petitioners, respectively requested administrative reconsideration of the Department's negative determination regarding eligibility for workers and former workers of the subject firm to apply for Trade Adjustment Assistance (TAA) under petition TA-W-39, 375 and North American Free Trade Agreement-Transitional Adjustment Assistance (NAFTA-TAA) under petition NAFTA-4939. The denial notices were signed on August 8, 2001 and published in the Federal Register on August 23, 2001 (66 FR 4378).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The TAA petition, filed on behalf of workers at Sun Studs, Inc., Lone Rock Timber Company, Lone Rock Logging Company, Roseburg, Oregon engaged in the production of veneer, was denied because the “contributed importantly” group eligibility requirement of section 222(3) of the Trade Act of 1974, as amended, was not met. The “contributed importantly” test is generally demonstrated through a survey of the workers' firm's customers. The Department conducted a survey of the subject company's major customers regarding their purchases of veneer. The survey revealed that none of the customers increased their import purchases of veneer, while reducing their purchases from the subject firm during the relevant period. The subject firm did not import veneer during the relevant period.

The NAFTA-TAA petition for the same worker group was denied because criteria (3) and (4) of the group eligibility requirements in paragraph (a)(1) of section 250 of the Trade Act, as amended, were not met. The survey revealed that the major customers did not increase their purchases of veneer, while decreasing their purchases from the subject firm during the relevant period. The subject firm did not import veneer like and directly competitive with what the subject plant produced from Mexico or Canada, nor was the veneer production shifted from the workers' firm to Mexico or Canada.

The petitioners supplied trade data depicting U.S. import trends during the relevant period.

The Department of Labor does examine and take into consideration trade statistics, but puts more emphasis on customer surveys to examine if the “contributed importantly” test is met, since this test demonstrates the direct impact on the subject firm. In addition to the initial survey showing no increased imports of veneer, the survey further indicates that some of the respondents increased their purchases of domestic veneer, rather than increasing their purchases of imported veneer during the relevant period.

The petitioners further allege that imported Canadian veneer was of a lower price then domestic veneer and thus the lower prices impacted the subject workers.

The price of veneer is not relevant to the TAA or NAFTA-TAA investigations that were filed on behalf of workers producing veneer.

Conclusion

After review of the application and investigative findings, I conclude that there has been no error or misinterpretation of the law or of the facts which would justify reconsideration of the Department of Labor's prior decisions. Accordingly, the application is denied.

Signed at Washington, DC, this 11th day of February, 2002.
Edward A. Tomchick,
Director, Division of Trade Adjustment Assistance.

[FR Doc. 02-5583 Filed 3-7-02; 8:45 am]

BILLING CODE 4510-30-M